DEPARTMENT OF THE INTERIOR

Bureau of Land Management

[13X LLIDB00200 LF2200000.JS0000 LFESG1UM0000]

Notice of Temporary Closure on Public Lands in Elmore County, ID

AGENCY: Bureau of Land Management, Interior.

ACTION: Notice of temporary closure.

SUMMARY: Notice is hereby given that the Stout Fire closure to motorized vehicle use is in effect on public lands administered by the Four Rivers Field Office, Bureau of Land Management (BLM).

DATES: The Stout Fire closure will be in effect on the date this notice is published in the Federal Register and will remain in effect for 2 years unless rescinded or modified before that by the authorized officer or designated Federal officer.

FOR FURTHER INFORMATION CONTACT: Larry Ridenhour, Four Rivers Field Office outdoor recreation planner, at 3948 Development Avenue, Boise, ID 83705, via email at lridenhour@blm.gov, or phone 208-384-3334. Persons who use a telecommunications device for the deaf (TDD) may call the Federal Information Relay Service (FIRS) at 1-800-877-8339, to contact the above individuals during normal business hours. The FIRS is available 24 hours a day, seven days a week, to leave a message or question with the above individuals. You will receive a reply during normal business hours.

SUPPLEMENTARY INFORMATION: The Stout Fire closure affects public lands burned July 11-14, 2012, by the Stout Fire, 10 miles northeast of Mountain Home, Idaho. According to the Stout Fire Temporary Motorized Use Closure Area map dated November 13, 2012, and located in the Boise District BLM Office, the affected public lands include: Portions of section 25, T. 2 S., R. 7 E.; portions of sections 19, 20, 21, 25, 26, 27, 28, 29, 30, 31, 32, 33, 34 and 35, T. 2 S., R. 8 E.; portions of sections 30 and 31, T. 2 S., R. 9 E.; portions of sections 2, 3, 4, 5, 6, 10, 11, 12, 13, 14, 24 and 25, T. 3 S., R. 8 E.; and portions of sections 6, 7, 17, 18, 19, 20, 28, 29 and 30, T. 3 S., R. 9 E.; Boise Meridian, Elmore County, Idaho. The area encompasses approximately 11,994 acres. The Stout Fire closure is intended to protect critical winter habitat for elk and mule deer as well as important year-long sage-grouse habitat. The closure will help to slow the spread of noxious weeds; allow planted shrub, forb, and grass species to become established; and allow existing plants to recover. The closure will help ensure the long-term viability of habitat for wildlife populations in the area.

Approximately 2,938 acres of the burned area would be drill seeded with perennial grass species adapted to the ecological sites. Approximately 3,000 acres will be broadcast seeded with sagebrush using aerial application methods. The burned areas will be closed to livestock use until resource objectives have been achieved. Approximately 7,841 acres will be broadcast seeded with sagebrush using aerial application methods. Approximately 50,000 seedlings (40,000 bitterbrush, 10,000 sagebrush) a year for 3 years will be planted in strategic locations in the burned area to provide multiple age classes of shrubs in the burned area. Accessible areas of the burned area will be closed to motorized recreational vehicles while the soil and vegetation recovers. Noxious weed inventory and spot herbicide treatment would occur during the first year following the fire within the burned area. Noxious weeds would be treated with BLM-approved chemicals in accordance with the Vegetation Treatments Using Herbicides on Bureau of Land Management Lands in 17 Western States, approved September 29, 2007 (Vegetation Treatment EIS). Approximately 12 miles of allotment and pasture boundary fence burned in the fire will be repaired to restrict livestock from the burned area during recovery and seed establishment and provide soil stabilization.

The BLM will post closure signs at gates, main access points, key perimeter locations and main entry points to the closed areas. The closure notices will also be posted in the Boise District BLM office. Maps of the affected area and other documents associated with this closure are available at the Boise District BLM Office, 3948 Development Avenue, Boise, ID 83705 and on the BLM-Idaho Web site http://www.blm.gov/id/st/en/advisories-closures.html. Copies are also available at the United States Forest Service Mountain Home Ranger District Office, 2180 American Legion Blvd., Mountain Home, ID 83647.

The BLM will enforce the following rule within the Stout Fire closure:

Motorized vehicles must not be used within the closed area.

Exemptions: The following persons are exempt from this order: Federal, State, and local officers and employees in the performance of their official duties; members of organized rescue or fire-fighting forces in the performance of their official duties; and persons with written authorization from the BLM.

Penalties: Any person who violates the above rule may be tried before a United States Magistrate and fined, not to exceed $1,000, imprisoned for no more than 12 months, or both. Violators may also be subject to the enhanced fines provided for in 18 U.S.C. 3571.

Authority: 43 CFR 8360.0-7; 43 CFR 8364.1.

Terry A. Humphrey,
Four Rivers Field Manager.

[FR Doc. 2013-09517 Filed 4-22-13; 8:45 am]

BILLING CODE 4310-GG-P